ENVIRONMENTAL PROTECTION AGENCY

40 CFR Part 52

[IN107-1a; FRL-6573-8]

Approval and Promulgation of Implementation Plan; Indiana Particulate Matter Rule

AGENCY: Environmental Protection Agency (EPA).

ACTION: Direct final rule.

SUMMARY: On February 3, 1999, the State of Indiana Department of Environmental Management (IDEM) submitted a site-specific State Implementation Plan (SIP) request to revise Particulate Matter (PM) emission limits for a facility owned by Central Soya Company, Inc., located in Indianapolis, Marion County, Indiana. Central Soya is converting its grain elevator from a processing to a storage facility. The SIP revision request reflects changes in emission limits resulting from the shutdown of various operations at the plant, and provides new emission limits reflecting the addition of new operations.

The projected PM emission decrease associated with the elimination of selected activities at the facility is 71.22 tons per year. The projected PM emission increases associated with the changes in operations at the facility is 14.81 tons per year. The overall change is a projected net decrease in PM emissions of approximately 56 tons per year from the facility. Because Indiana's Central Soya SIP revision request is consistent with the Clean Air Act and applicable policy, EPA is approving it.

DATES: This rule is effective on June 12, 2000, unless EPA receives adverse written comments by May 11, 2000. If adverse comment is received, EPA will publish a timely withdrawal of the rule in the Federal Register and inform the public that the rule will not take effect.

ADDRESSES: Written comments should be sent to: J. Elmer Bortzer, Chief, Regulation Development Section, Air Programs Branch (AR-18J), U.S. Environmental Protection Agency, 77 West Jackson Boulevard, Chicago, Illinois 60604. You can inspect copies of the State Plan submittal at the following address: U.S. Environmental Protection Agency, Region 5, Air and Radiation Division, 77 West Jackson Boulevard, Chicago, Illinois 60604. (We recommended that you contact Mark J. Palermo at (312) 886-6082 before visiting the Region 5 Office.)

FOR FURTHER INFORMATION CONTACT: John Paskevicz, Environmental Engineer, at (312) 886-6084.

SUPPLEMENTARY INFORMATION: Throughout this document wherever “we,” “us” or “our” are used, we mean EPA. Also, whenever we refer to “Central Soya”, we mean Central Soya Company, Incorporated, at 1102 West 18th Street in Marion County, Indianapolis, Indiana.

Table of Contents

I. What Is EPA Approving in This Action?

II. The Indiana State Plan Requirement

What pollutant does this revision affect?

What is the existing State requirement for this source?

What are the changes requested by Central Soya?

What are the criteria for approving changes to Central Soya SIP requirements?

III. The Indiana Plan for Particulate Matter

Who is affected by this SIP revision?

Did the public have an opportunity to comment on the changes?

What revisions are we approving?

How did Indiana show that the changes to the SIP are approvable?

IV. Review and approval of the Indiana SIP revision for Central Soya, Company, Inc.

Why is Indiana's SIP revision approvable?

Are the particulate matter air quality standards and public health protected as a result of the approval of this SIP revision?

When will this rule change become Federally enforceable?

V. Final Rulemaking Action

VI. Administrative Requirements

A. Executive Order 12866

B. Executive Order 13045

C. Executive Order 13084

D. Executive Order 13132

E. Regulatory Flexibility Act

F. Unfunded Mandates

G. Submission to Congress and the Comptroller General

H. National Technology Transfer and Advancement Act

I. Petitions for Judicial Review

I. What Is EPA Approving in This Action?

EPA is approving a requested revision to Indiana SIP rule 326 IAC 6-1-12 for Central Soya, as submitted by Indiana to EPA with a letter dated February 3, 1999. The rule addresses particulate matter concentration and annual emission limits for a number of sources at Central Soya's Marion County, Indianapolis, Indiana facility. Indiana submitted additional technical support information on February 23, 1999. The revision reflects the elimination of old processes and the addition of new operations at the facility. We are approving mass rate limits reflected in both an annual rate, which represents a cap on the total emissions for that source, and a concentration limit in grains per dry standard cubic feet (grains/dscf).

II. The Indiana State Plan Requirement

What Pollutant Does This Revision Affect?

This revision provides for the reduction in emissions of particulate matter from the sources which are closed down, and an increase in emissions for additional sources. Particulate emissions should change from a total of 71.22 tons per year, the previously approved emission level, to 14.81 tons per year. This represents a net emissions decrease of approximately 56 tons of PM per year.

What Is the Existing State Requirement for This Source?

Prior to this SIP revision request, Central Soya had been subject to particulate matter emission limits for a boiler and a number of other sources and operations under 326 IAC 6-1-12(a). Those limits, as noted in the record of public hearing of the Air Pollution Control Board, are as follows:

Source description | Tons/year | Grains per dry standard cubic foot
Vogt Boiler | 32.3 | ¹ 0.350
Toasting Feed Mill | 5.0 | 0.013
Dry Soybean Meal | 5.6 | 0.03
Soybean Meal Cooler | 10.2 | 0.03
Pellet Cooler (South) | 7.4 | 0.03
Feed Pellet Cooler (North) | 9.0 | 0.034
Bean Bowl Storage | 0.2 | 0.001
Conveyor System Aspiration | 0.42 | 0.001
Truck Pit Receiving Area | 1.1 | 0.006
¹ lb/MMBtu.

What Are the Changes Requested by Central Soya?

Central Soya asked the State to amend 326 IAC 6-1-12 to eliminate a number of sources and add several new sources. Central Soya has reported that the following sources (identified by point input I.D.) are no longer in operation: (01) Vogt Boiler; (02) Toasting Mill Feed; (03) Dry Soybean Mill; (04) Soybean Meal Cooler; (05) Pellet Cooler South; (06) Feed Pellet Cooler North; (08) Bean Bowl Storage; (09) Conveyor System Aspiration; and (10) Truck Pit. Central Soya has asked the State to delete these sources from the State rule.

Central Soya also requested that EPA approve the revised emission limits applicable to (09A) Elevator Gallery Belt Trippers; (09B) Elevator Gallery Belt Loaders (East and West); and (09C) Elevator Grain Dryer Conveying Legs. Central Soya also requested that the State add two other sources to the inventory: (10A) Elevator #1 Truck and Rail Receiving System and Basement, and (10B) Elevator #2 Truck and Rail Receiving System. The Indiana Air Pollution Control Board approved these changes on November 1, 1998.

What Are the Criteria for Approving Changes to Central Soya SIP Requirements?

The general criteria used by EPA to evaluate such emissions trades, or “bubbles,” under the Clean Air Act are set out in the EPA's Emissions Trading Policy Statement (ETPS) (see 51 FR 43814, December 4, 1986). The ETPS allows a State to forego a modeling analysis in those trades where the “applicable net baseline emissions do not increase and in which the sum of the emissions increases, looking only at the increasing sources, totals less than 25 tons per year of particulate matter.” EPA considers that such trades will have, at most, a “de minimis” impact on local air quality. 51 FR 43844.

In the case of Central Soya, Indiana also elected to perform a “Level II” modeling analysis under the ETPS. A Level II analysis must include emissions from the sources involved in the trade, and must demonstrate that the air quality impact of the trade does not exceed set significance levels. For PM, the significance levels are 10 micrograms per cubic meter (μg/m ³) for any 24-hour period, and 5 μg/m ³ for any annual period.

The modeling analysis submitted by the IDEM in support of the requested Central Soya SIP revision is consistent with a Level II analysis. The analysis shows that the SIP revision request will not cause or contribute to any exceedances of the PM NAAQS. The maximum modeled PM air quality impacts were 1.8 μg/m ³ in 24-hours, and 0.0 μg/m ³ on an annual basis. Therefore, IDEM has demonstrated that this SIP revision will not have a significant impact on air quality.

III. The Indiana Plan for Particulate Matter

Who Is Affected by This SIP Revision?

This revision reduces the emissions of particulate matter from selected sources in the Central Soya facility, as well as the facility as a whole. The reductions come about because of the change in operations at the plant. The State reports that the facility underwent a change from a processing plant to exclusively a storage facility. Citizens of Marion County living near the facility will benefit from the reductions because the net overall change should be a positive impact on air quality.

Did the Public Have an Opportunity To Comment on the Changes?

The State published a public notice on November 3, 1997, and December 23, 1997, to inform citizens that the revised plan was available for review and public comment. Indiana held two Air Pollution Control Board meetings on the Central Soya rule changes on December 3, 1997 and February 4, 1998. The State did not receive any adverse comment regarding these changes.

What Revisions Are We Approving?

Previous to this SIP revision request, Central Soya had been subject to particulate matter emission limits for a boiler and a number of other sources and operations under 326 IAC 6-1-12(a). These approved limits are noted in the record of public hearing of the Air Pollution Control Board.

Indiana has amended rule 326 IAC 6-1-12(a) to eliminate a number of sources, resulting in a reduction of annual particulate matter emissions from Central Soya. Indiana has added five sources to the rule. These are: Elevator Gallery Belt Trippers; Elevator Gallery Belt Loaders (East and West); Elevator Grain Dryer Conveying Legs; Elevator #1 Truck and Rail Receiving System and Basement; and Elevator #2 Truck and Rail Receiving System. The State-approved emission limits for the five new sources are listed in the following table:

Source description | Tons/year | Grains per dry standard cubic foot
Elevator Gallery Belt Tripper (East and West) | 0.92 | 0.006
Elevator Gallery Belt Loaders (East and West) | 0.70 | 0.006
Elevator Grain Dryer Conveying Legs | 1.01 | 0.006
Elevator #1 Truck/Rail Receiving System and Basement | 7.23 | 0.006
Elevator #2 Truck/Rail Receiving System | 4.95 | 0.006

How Did Indiana Show That the Changes to the SIP Are Approvable?

The State's technical support document included a table of the changes in emissions at the Central Soya facility for the sources listed. These changes, as published in the November 1, 1998 Indiana Register, Volume 22, Number 2 (page 417), indicate that the decreases in PM emissions should total 71.22 tons per year and the increases should total 14.81 tons per year. This represents a net decrease in emissions of 56.41 tons per year.

The State also performed air emissions ambient modeling. The modeling shows that impacts are below the Level II significant impact levels of 10.0 μg/m³ for the 24-hour and 5.0 μg/m³ for the annual time averaged period.

IV. Review and Approval of the Indiana SIP Revision for Central Soya Company, Inc.

Why Is Indiana's SIP Revision Approvable?

The revision to this SIP is approvable because the changes requested by the State meet the requirements of the Clean Air Act and EPA's bubble policy, as noted above. Also, the emissions increases should have, at most, a “de minimis” impact on air quality as a result of the concurrent emissions reductions.

Are the Particulate Matter Air Quality Standards and Public Health Protected as a Result of the Approval of This SIP Submission?

The particulate matter air quality standard and public health should be protected by this SIP revision. The Clean Air Act and applicable policy permit changes to the State's implementation plan without the need for a detailed technical review under certain carefully circumscribed situations. These include emission changes in which there is a net reduction in emissions. This approach should ensure that ambient air quality standards will be attained and maintained, and public health protected. The request being approved today results in a net reduction in particulate matter emissions.

When Will This Rule Change Become Federally Enforceable?

This revision will become Federally enforceable on the effective date of this approval.

V. Final Rulemaking Action

In this rulemaking action, EPA approves the Central Soya Company, Incorporated SIP submission as a revision to the Indiana SIP. The revision eliminates a total of nine source operations and adds five new operations. It has the overall effect of reducing the emissions of particulate matter from the facility. The Indiana Air Pollution Control Board approved the revision and published it in the Indiana Register, Volume 22, Number 2, page 417, dated November 1, 1998. EPA is publishing this direct final approval without prior proposal because EPA views this as a noncontroversial revision and anticipates no adverse comments. However, in a separate document in this Federal Register publication, the EPA is proposing to approve the SIP revision should adverse written comments be filed. This action will be effective June 12, 2000, without further notice unless EPA receives relevant adverse written comment by May 11, 2000. Should the Agency receive such comments, it will publish a final rule informing the public that this direct final action will not take effect. Any parties interested in commenting on this action should do so at this time. If no comments are received, the public is advised that this action will be effective on June 12, 2000.

VI. Administrative Requirements

A. Executive Order 12866

The Office of Management and Budget (OMB) has exempted this regulatory action from Executive Order 12866, entitled “Regulatory Planning and Review.”

B. Executive Order 13045

Protection of Children from Environmental Health Risks and Safety Risks (62 FR 19885, April 23, 1997), applies to any rule that: (1) is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

C. Executive Order 13084

Under Executive Order 13084, EPA may not issue a regulation that is not required by statute, that significantly affects or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments. This action does not involve or impose any requirements that affect Indian Tribes. Accordingly, the requirements of section 3(b) of Executive Order 13084 do not apply to this rule.

D. Executive Order 13132

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely approves a state rule implementing a federal standard, and does not alter the relationship or the distribution of power and responsibilities established in the Clean Air Act. Thus, the requirements of section 6 of the Executive Order do not apply to this rule.

E. Regulatory Flexibility

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities. Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

F. Unfunded Mandates

Under sections 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: rules of particular applicability; rules relating to agency management or personnel; and rules of agency organization, procedure, or practice that do not substantially affect the rights or obligations of non-agency parties. 5 U.S.C. 804(3). EPA is not required to submit a rule report regarding this action under section 801 because this is a rule of particular applicability.

H. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

I. Petitions for Judicial Review

Under section 307(b)(1) of the Clean Air Act, petitions for judicial review of this action must be filed in the United States Court of Appeals for the appropriate circuit by June 12, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Particulate matter, Reporting and recordkeeping requirements.

Dated: March 28, 2000.
Francis X. Lyons,
Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart P—Indiana

2. Section 52.770 is amended by adding paragraph (c)(130) to read as follows:

§ 52.770 Identification of plan.

* * * * *

(c) * * *

(130) On February 3, 1999, Indiana submitted a site specific SIP revision request for the Central Soya Company, Incorporated, Marion County, Indiana. The submitted revision amends 326 IAC 6-1-12(a), and provides for revised particulate matter emission totals for a number of source operations at the plant. The revision reflects the closure of nine operations and the addition of five new ones, resulting in a net reduction in particulate matter emissions.

(i) Incorporation by reference. The entry for Central Soya Company, Incorporated contained in Indiana Administrative Code Title 326: Air Pollution Control Board, Article 6: Particulate Rules, Rule 1: Nonattainment Area Limitations, Section 12: Marion County. Subsection (a) amended at 22, Indiana Register 416, effective October 16, 1998.

[FR Doc. 00-8828 Filed 4-10-00; 8:45 am]

BILLING CODE 6560-50-U